DEPARTMENT OF LABOR

Employment and Training Administration

[TA-W-37,222]

Wagener Manufacturing Company, a Division of Foster Industries Incorporated, Wagener, South Carolina; Notice of Termination of Investigation

Pursuant to Section 221 of the Trade Act of 1974, an investigation was initiated on January 3, 2000 in response to a worker petition which was filed on behalf of workers at Wagener Manufacturing Company, a division of Foster Industries, Incorporated, located in Wagener, South Carolina.

An active certification covering the petitioning group of workers remains in effect (TA-W-36,937). Consequently, further investigation in this case would serve no purpose, and the investigation has been terminated.

Signed in Washington, DC, this 4th day of January 2000.
Grant D. Beale,
Program Manager, Office of Trade Adjustment Assistance.

[FR Doc. 00-3502 Filed 2-14-00; 8:45 am]

BILLING CODE 4510-30-M